MILITARY COMPENSATION AND RETIREMENT MODERNIZATION COMMISSION

Meeting of the Military Compensation and Retirement Modernization Commission

AGENCY: Military Compensation and Retirement Modernization Commission.

ACTION: Notice of Public Hearings.

SUMMARY: The Military Compensation and Retirement Modernization Commission (Commission) was established by National Defense Authorization Act, FY 2013. Pursuant to the Act, the Commission is holding public hearings in San Diego, California, in order to solicit comments from the general public and select experts on the modernization of the military compensation and retirement systems.

DATES: The hearings will be held Wednesday, March 26, 2014.

ADDRESSES: The hearings will be held at the Hilton San Diego, Harbor Island, 1960 Harbor Island Drive, San Diego, California 92101.

FOR FURTHER INFORMATION CONTACT: Christopher Nuneviller, Associate Director, Military Compensation and Retirement Modernization Commission, PO Box 13170, Arlington VA 22209, telephone 703-692-2080, fax 703-697-8330, email christopher.nuneviller@mcrmc.gov.

SUPPLEMENTARY INFORMATION: The Military Compensation and Retirement Modernization Commission (Commission) was established by the National Defense Authorization Act FY 2013, Public Law 112-239, section 671, (amended by National Defense Authorization Act FY 2014, Public Law 113-66, section 1095). The Commission is conducting public hearings and town halls across the United States in order to solicit comments on the modernization of the military compensation and retirement systems. The Commission seeks the views of service members, retirees, their families and other interested parties regarding pay, retirement, health benefits and quality of life programs of the Uniformed Services. The Commission will hear from senior commanders of local military commands and their senior enlisted advisors, unit commanders and their family support groups, local medical and education community representatives, and other quality of life organizations. Meeting sites will be accessible to members of the general public including individuals with disabilities.

On March 26, 2014, the Commission will hold public hearings from 8:00 a.m. until 1:00 p.m.

March 26, 2014 Agenda

8:00 a.m. to 9:30 a.m. Senior Local Military Commanders and Senior Enlisted Advisors

9:45 a.m. to 11:15 a.m. Military Medicine Matters

11:30 a.m. to 1:00 p.m. Local Military/Veteran Transition Service Organizations

The hearings will consist of the following:

a. Brief opening remarks by the Chairman and one or more of the Commissioners,

b. brief opening remarks by each panelist, and

c. questions posed by the Chairman and Commissioners to the panelists.

Due to the deliberative, nascent, and formative nature of the Commission's work, the Commissioners are unable to discuss their thoughts, plans, or intentions for specific recommendations that will ultimately be made to the President and Congress.

The public hearings will be transcribed and placed on the Commission's Web site. In addition to public hearings, and due to the essential need for input from the beneficiaries, the Commission is accepting and strongly encourages comments and other submissions on its Web site (www.mcrmc.gov).

Christopher Nuneviller,
Associate Director, Administration and Operations.

[FR Doc. 2014-05603 Filed 3-13-14; 8:45 am]

BILLING CODE P